DEPARTMENT OF LABOR

Office of the Assistant Secretary for Office of Disability Employment Program Accessible Technology Action Center (ATAC)

AGENCY: Office of Disability Employment Policy, Department of Labor.

Announcement Type: New Notice of Availability of Funds and Solicitation for Grant Applications (SGA) for Cooperative Agreements. The full announcement is posted on http://www.grants.gov.

Funding Opportunity Number: SGA 12-13.

Key Dates: The closing date for receipt of applications is August 31, 2012.

Funding Opportunity Description

The U.S. Department of Labor (DOL or Department), Office of Disability Employment Policy (ODEP) announces the availability of approximately $950,000 to fund a cooperative agreement to develop and operate the Accessible Technology Action Center (ATAC), a new national resource to facilitate and promote the use of accessible technology in the hiring, employment, retention, and career advancement of individuals with disabilities.

DOL is using this funding to strategically (1) develop, coordinate and publicize resources on accessible technology in the workplace; (2) promote effective employer practices and strategies on accessible technology issues in the workplace related to leadership, self-assessment, policies and practices, infrastructure, and continuous improvement; (3) facilitate policy advancement on specific issues facing employers, developers, and the technology industry related to ensuring accessible, usable and interoperable technology in all types of work settings; and (4) translate that policy knowledge into adoption and implementation.

The tasks to be carried out by the Accessible Technology Action Center include, but are not limited to the following:

• Developing and maintaining a comprehensive web portal with resources related to accessible technology in the workplace, including resources that meet the varied needs of individuals with disabilities, private and public sector employers, and information technology professionals and developers.

• Conducting trainings/webinars on issues related to accessible technology in the workplace, including use of emerging technologies to facilitate employment and creating accessible human resource management systems (e.g., accessible online job application portals).

• Collecting, analyzing and publicizing exemplary practices related to accessible technology in the workplace through collaboration with public and private sector employers.

• Conducting outreach and establishing and maintaining strategic partnerships and effective working collaborations with outside entities with the goal of sharing knowledge and promoting the adoption and implementation of policies and effective practices related to accessible technology in the workplace.

Funding of $950,000 will be awarded through a competitive process for a 12-month period of performance, with the possibility of up to four (4) option years of funding depending on the availability of funds and satisfactory performance.

This solicitation provides background information, describes the application submission requirements, outlines the process that eligible entities must use to apply for funds covered by this solicitation, and outlines the evaluation criteria used as a basis for selecting the grantee.

The full Solicitation for Grant Applications is posted on http://www.grants.gov under U.S. Department of Labor/ODEP. Applications submitted through http://www.grants.gov or hard copy will be accepted. If you need to speak to a person concerning these grants, you may telephone Cassandra Mitchell at 202-693-4570 (not a toll-free number). If you have issues regarding access to the http://www.grants.gov Web site, you may telephone the Contact Center Phone at 1-800-518-4726.

Signed in Washington, DC, this 2nd day of August 2012.
Cassandra R. Mitchell,
Grant Officer.

[FR Doc. 2012-19371 Filed 8-7-12; 8:45 am]

BILLING CODE 4510-FK-P